ENVIRONMENTAL PROTECTION AGENCY

[OECA-2003-0041; FRL-7518-5]

Agency Information Collection Activities; Submission of EPA ICR No. 1072.07 (OMB No. 2060-0081) to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS for Lead-Acid Battery Manufacturing (Renewal). The ICR, which is abstracted below, describes the nature of the information collection and its estimated burden and cost.

DATES: Additional comments may be submitted on or before July 25, 2003.

ADDRESSES: Follow the detailed instructions under SUPPLEMENTARY INFORMATION.

FOR FURTHER INFORMATION CONTACT: María Malavé, Compliance Assessment and Media Programs Division (Mail Code 2223A), Office of Compliance, Environmental Protection Agency, 1200 Pennsylvania Avenue, NW., Washington, DC 20460; telephone number: (202) 564-7027; fax number: (202) 564-0050; e-mail address: malave.maria@epa.gov.

SUPPLEMENTARY INFORMATION: EPA has submitted the following ICR to OMB for review and approval according to the procedures prescribed in 5 CFR 1320.12. On September 26, 2002 (67 FR 60672), EPA sought comments on this ICR pursuant to 5 CFR 1320.8(d). EPA received no comments.

EPA has established a public docket for this ICR under Docket ID Number OECA-2003-0041, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center is (202) 566-1514. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to OMB and EPA within 30 days of this notice, and according to the following detailed instructions: (1) Mail your comments to OMB at: Office of Information and Regulatory Affairs, Office of Management and Budget (OMB), Attention: Desk Officer for EPA, 725 17th Street, NW., Washington, DC 20503, and (2) submit your comments to EPA online using EDOCKET (our preferred method), by e-mail to docket.oeca@epa.gov, or by mail to: EPA Docket Center, Environmental Protection Agency, Mail Code 2201T, 1200 Pennsylvania Avenue, NW., Washington, DC 20460.

EPA's policy is that public comments, whether submitted electronically or on paper, will be available for public viewing in EDOCKET as EPA receives them and without change, unless the comment contains copyrighted material, Confidential Business Information (CBI), or other information whose public disclosure is restricted by statute. When EPA identifies a comment containing copyrighted material, EPA will provide a reference to that material in the version of the comment placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: NSPS for Lead-Acid Battery Manufacturing (40 CFR part 60, subpart KK) (Renewal) (OMB Control Number 2060-0081, EPA ICR Number 1072.07). This is a request to renew an existing approved collection that is scheduled to expire on June 30, 2003. Under OMB regulations, the Agency may continue to conduct or sponsor the collection of information while this submission is pending at OMB.

Abstract: The New Source Performance Standards (NSPS) for the regulations published at 40 CFR part 60, subpart KK, were proposed on January 14, 1980, and promulgated on April 16, 1982. These regulations apply to the following affected facilities in lead-acid battery manufacturing plants with production capacity that is equal to or exceeds 6.5 tons of lead: Grid casting facilities, paste mixing facilities, three-process operation facilities, lead-oxide manufacturing facilities, lead reclamation facilities, and other lead-emitting operations, commencing construction, modification, or reconstruction after the date of proposal. This information is being collected to assure compliance with 40 CFR part 60, subpart KK.

In general, all NSPS standards require initial notifications, performance tests, and periodic reports if using continuous emissions monitoring systems (CEMS). Owners or operators are also required to maintain records of the occurrence and duration of any startup, shutdown, or malfunction in the operation of an affected facility, or any period during which the monitoring system is inoperative. These notifications, reports, and records are essential in determining compliance, and are required of all sources subject to NSPS. Any owner or operator subject to the provisions of this part shall maintain a file of these measurements, and retain the file for at least two years following the date of such measurements, maintenance reports, and records.

An agency may not conduct or sponsor, and a person is not required to respond to, a collection of information unless it displays a currently valid OMB Control Number. The OMB control numbers for EPA's regulations are listed in 40 CFR part 9 and 48 CFR chapter 15, and are identified on the form and/or instrument, if applicable.

Burden Statement: The annual public reporting and recordkeeping burden for this collection of information is estimated to average 62 hours (rounded) per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Lead-acid battery manufacturing plants/grid casting facilities, paste mixing facilities, three-process operation facilities, lead-oxide manufacturing facilities, lead reclamation facilities, and other lead-emitting operations.

Estimated Number of Respondents: 52.

Frequency of Response: Initial and semiannual, if using CEMS.

Estimated Total Annual Hour Burden: 4,053 hours (rounded).

Estimated Total Capital and Operations & Maintenance (O & M) Annual Costs: $11,700 which includes no annualized capital/startup costs.

Changes in the Estimates: There is an increase of 3,930 hours in the total estimated burden currently identified in the OMB Inventory of Approved ICR Burdens. The net increase in labor burden from the most recently approved ICR is due to the inclusion of monitoring and recordkeeping requirements for sources using scrubbing systems in the burden calculation which had been omitted. We have determined that 25 percent of the sources (i.e., 13 sources) would be required to monitor and record pressure drop across the scrubbing systems every 15 minutes. The inclusion of these rule requirements resulted in a significant net increase in labor hours even when the number of sources significantly decreased (i.e., from 82 to 52) from the most recently approved ICR. The decrease in the number of sources did not affect the labor hours significantly because no periodic reports are required for existing sources. However, the decrease in the number of sources had a net decrease on the operation and maintenance costs associated with continuous monitoring devices when compared to the most recently approved ICR.

Dated: June 13, 2003.
Doreen Sterling,
Acting Director, Collection Strategies Division.

[FR Doc. 03-16030 Filed 6-24-03; 8:45 am]

BILLING CODE 6560-50-P